Title 3—

The President

Proclamation 9026 of September 27, 2013

National Hunting and Fishing Day, 2013

By the President of the United States of America

A Proclamation

Through hunting and fishing, in traditions handed down from generation to generation, families strengthen their bonds and individuals forge connections with the great outdoors. They rise before dawn to cast a line on a misty stream or wait patiently in a stand as a forest awakes. Parents help toddlers reel in their first catch, and young hunters master the call of a wild turkey. On National Hunting and Fishing Day, we celebrate these longstanding traditions and recommit to preserving the places in which they flourish.

Working across all levels of government and alongside nonprofits, private organizations, and conservation advocates, my Administration launched the America's Great Outdoors Initiative. This program engages Americans at the grassroots level to protect and restore our cherished lands and waters and to help reconnect all Americans, regardless of their age or background, to the outdoors. Anglers and hunters have played an integral role, living up to their legacy as some of our Nation's strongest defenders of wild places.

In addition to its significance as a time-honored tradition, outdoor recreation supports millions of jobs. Hunting and fishing form a large part of this essential industry, bolstering tourism, strengthening America's economy, and funding conservation through fishing licenses or duck stamps.

Today, as we reflect on the value hunting and fishing bring to our lives—from fortified family bonds to a renewed appreciation for nature—let us ensure future generations will have the same opportunity to take part in this experience.

NOW, THEREFORE, I, BARACK OBAMA, President of the United States of America, by virtue of the authority vested in me by the Constitution and the laws of the United States, do hereby proclaim September 28, 2013, as National Hunting and Fishing Day. I call upon all Americans to observe this day with appropriate programs and activities.

IN WITNESS WHEREOF, I have hereunto set my hand this twenty-seventh day of September, in the year of our Lord two thousand thirteen, and of the Independence of the United States of America the two hundred and thirty-eighth.

[FR Doc. 2013-24355

Filed 10-1-13; 11:15 am]

Billing code 3295-F4